DEPARTMENT OF TRANSPORTATION

Federal Aviation Administration

[Docket No. FAA-2019-0269]

Agency Information Collection Activities: Requests for Comments; Clearance of Renewed Approval of Information Collection: FAA Acquisition Management System (FAAAMS)

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on April 8, 2019 This collection involves the FAA Acquisition Management System (FAAAMS) and information collected in response to notices regarding FAA acquisitions. The information to be collected is necessary to solicit, award, and administer contracts for supplies, equipment, services, facilities, and real property to fulfill the FAA's mission. This notice revises the background based on three overall acquisition areas with applicable forms under each, and updates the figures for “Respondents” and “Estimated Total Annual Burden” below based on a revised assessment of the contractual workload.

DATES: Written comments should be submitted by July 29, 2019.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Tim Eckert by email at: Tim.Eckert@faa.gov or by phone at 202-267-7527.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0595.

Title: FAA Acquisition Management System (FAAAMS).

Form Numbers: Please see https://fast.faa.gov/Procurement_Forms.cfm for all forms.

Type of Review: Renewal of an information collection.

Background: The Federal Register Notice with a 60-day comment period soliciting comments on the following collection of information was published on April 8, 2019 (84 FR 13987). No comments were received in response to this Notice. The FAAAMS establishes policies and internal procedures for FAA acquisition. Section 348 of Public Law 104-50 directed FAA to establish an acquisition system. The information collection is carried out as an integral part of FAA's acquisition process. Various portions of the AMS describe information needed from vendors seeking or already doing business with FAA. Our contracting offices collect the information to plan, solicit, award, administer and close individual contracts. Our small business office collects information to promote and increase small business participation in FAA contracts. AMS requires information collection through forms in the following areas (specific information collected varies by the nature of each form):

IC-1 Market Surveys/Requests for Information—In the initial stage of a procurement, these activities are used to identify products and services available to meet FAA needs, as well as to obtain vendor comments on draft requirements identified to satisfy an FAA need. The information obtained is important in determining the acquisition strategy in such areas as the evaluation criteria for competitive proposals or whether to set the procurement aside for a particular size of business.

Total Number of Form Responses per Year—8,572.

Average Burden Houses per Response—7.94.

Annual Burden Hours—68,044.

Forms:

Business Declaration—collect information on business size of prospective vendors.

SF-330 Architect-Engineer Qualifications—collect information from prospective architect-engineer firms on their qualifications.

Interested Parties Form—used to publicize information on prospective vendors for the purposes of subcontracting/teaming opportunities.

IC-2 Solicitations—In the next stage of a procurement, these activities are used to evaluate proposals with vendor-specific technical solutions, capabilities, and other qualifications such as subcontracting plans that may result in the award of a contract for a defined FAA need. The extent and nature of the information required from vendors varies depending on the nature of the goods and/or services procured, as well as the size and complexity of the FAA requirements.

Total Number of Form Responses per Year—28,798.

Average Burden Houses per Response—20.93.

Annual Burden Hours—602,732.

Forms:

SF-30—Amendment of Solicitation/Modification of Contract—communicate changes to FAA requirements to prospective vendors in amendments.

SF-252 Architect-Engineer Contract—award architect-engineer contracts.

SF-26—Award/Contract—award contracts.

DOT 4220.34 Contract Facilities Capital Cost of Money—vendors to provide complete information on facilities' capital cost of money in their cost proposals.

DOT4220-.34—Contract Pricing Summary—vendors to provide a complete summary of their costs in their cost proposal.

SF-18/33/1447—Request for Quotations/Solicitation, Offer, and Award/Solicitation/Contract—request contractor quotes/proposals.

SF-1442 Solicitation, Offer, and Award—vendor responses to construction, alteration, or repair solicitations.

IC-3 Post-Award Contract Administration—Depending on the complexity and size of the contract, various activities are ongoing after contract award in areas such as bonds (e.g., for construction contracts), small business subcontracting (e.g., applying to large businesses), the tracking and management of Government Property, and invoicing. Contract modifications vary from routine administrative updates to major additions of work.

Total Number of Form Responses per Year—110,336.

Average Burden Hours per Response—2.36.

Annual Burden Hours—249,918.5.

Forms:

SF-30 Amendment of Solicitation/Modification of Contract—used for contract modifications of all kinds.

DOT 4220.4 Contractor's Release—contractor release of claims for a matter under the contract.

SF-1443—Contractor's Request for Progress Payments—contractor request for payment based on a percentage of total cost or stage of completion.

Electronic Funds Transfer Waiver Request—contractor request for exemption from electronic funds payment process.

SF-1428—Inventory Schedule B/Continuation Sheet—contractor inventory of Government Property.

DOT 4220.42 Material Inspection and Receiving Report—contractor invoice submittal.

SF-25A—Payment Bond—required for certain construction contracts as defined in the AMS.

SF-25—Performance Bond Annual—where a performance bond is appropriate for all covered contracts.

SF-1439—Schedule of Accounting Information—for contractor termination settlement proposal submittals.

SF-1443—Statement and Acknowledgment—in construction contracts for each subcontract awarded.

Respondents: Contractors with an interest in or involved with FAA Acquisitions: 9,240.

Frequency: On occasion.

Estimated Average Burden per Response: 6.2.

Estimated Total Annual Burden: 921,739 (any differences from cumulative area information due to rounding).

Issued in Washington, DC, on June 24 2019.
Michelle G. Brune,
Division Manager, Acquisition Policy Division (AAP-100).

[FR Doc. 2019-13789 Filed 6-27-19; 8:45 am]

BILLING CODE 4910-13-P